FEDERAL HOUSING FINANCE BOARD

12 CFR Chapter IX

[No. 2002-05]

RIN 3069-AB12

Technical Amendments to Federal Housing Finance Board Regulations

Correction

In rule document 02-5462 beginning on page 12841 in the issue of Wednesday, March 20, 2002, make the following correction:

§ 951.4 [Corrected]

On page 12852, in the first column, in § 951.4, amendatory instruction “118.”, the words “Council members” should read, “Council members'”.

[FR Doc. C2-5462 Filed 3-27-02; 8:45 am]

BILLING CODE 1505-01-D

DEPARTMENT OF HEALTH AND HUMAN SERVICES

Centers for Medicare and & Medicaid Services

42 CFR Parts 410, 411, 413, 424, and 489

[CMS-1163-CN]

RIN 0938-AK47

Medicare Program; Prospective Payment System and Consolidated Billing for Skilled Nursing Facilities; Correction

Correction

In rule document 02-6757 appearing on page 13278, in the issue of Friday, March 22, 2002, make the following correction:

On page 13278, in the third column, under the heading, Corrections to Preamble, in the first line, “column 3” should read “column 2”.

[FR Doc. C2-6757 Filed 3-27-02; 8:45 am]

BILLING CODE 1505-01-D

DEPARTMENT OF HEALTH AND HUMAN SERVICES

Public Health Service

National Toxicology Program (NTP); National Institute of Environmental Health Science (NIEHS)

Correction

In notice document 02-5652 beginning on page 10734 in the issue of Friday, March 8, 2002, make the following correction:

On page 10735, in the first column, under Request for Public Comments, in the first paragraph, three lines from the bottom “[Please insert date 60 days from publication of this notice]” should read “May 7, 2002”.

[FR Doc. C2-5652 Filed 3-27-02; 8:45 am]

BILLING CODE 1505-01-D

DEPARTMENT OF JUSTICE

Drug Enforcement Agency

21 CFR Part 1308

[DEA-225P]

Schedule of Controlled Substances: Proposed Rule: Rescheduling of Buprenorphine From Schedule V to Schedule III

Correction

In proposed rule document 02-6767 beginning on page 13114 in the issue of Thursday, March 21, 2002, make the following corrections:

1. On page 1135, in the first column, in the second paragraph, in the first line, “(0.3mg/m1)” should read, “(0.3mg/ml)”.

2. On the same page, in the first column, in the second paragraph, in the fifth line, “Subozone®” should read, “Suboxone®”.

3. On the same page, in the second column, in the second paragraph, in the thirteenth line, “table” should read, “tablet”.

4. On the same page, in the same column, in the second paragraph, in the 15th line, “fewer” should read, “newer”.

5. On page 13115, under the heading “What Is the Effect of This Notice?”, in the first paragraph, in the fourth line, “salts or ” should read, “ salts of”.

[FR Doc. C2-6767 Filed 3-27-02; 8:45 am]

BILLING CODE 1505-01-D

SECURITIES AND EXCHANGE COMMISSION

[File No. 500-1]

A.C.L.N. Ltd.; Order of Suspension of Trading

March 18, 2002.

Correction

In notice document 02-6819 appearing on page 13029 in the issue of Wednesday, March 20, 2002, the heading is corrected to read as set forth above.

[FR Doc. C2-6819 Filed 3-27-02; 8:45 am]

BILLING CODE 1505-01-D